DEPARTMENT OF HOMELAND SECURITY

RIN 1615-AC42

DEPARTMENT OF JUSTICE

Executive Office for Immigration Review

8 CFR Parts 1235

[EOIR Docket No. 18-0102; A.G. Order No. 4922-2020]

RIN 1125-AA94

Procedures for Asylum and Withholding of Removal; Credible Fear and Reasonable Fear Review

AGENCY: Department of Homeland Security; Executive Office for Immigration Review, Department of Justice.

ACTION: Final rule; correction.

SUMMARY: The Department of Justice is correcting a final rule that appeared in the Federal Register on December 11, 2020. That document amended Department of Homeland Security and Department of Justice (“the Departments”) regulations governing credible fear determinations. Individuals found to have a credible fear will have their claims for asylum, withholding of removal under Immigration and Nationality or protection under the regulations issued pursuant to the legislation implementing the Convention Against Torture and Other Cruel, Inhuman, or Degrading Treatment or Punishment, adjudicated by an immigration judge within the Executive Office for Immigration Review in streamlined proceedings (rather than under section 240 of the Act). The final rule also specifid what standard of review applies in such streamlined proceedings.

DATES: Effective on January 11, 2021.

FOR FURTHER INFORMATION CONTACT: Lauren Alder Reid, Assistant Director, Office of Policy, Executive Office for Immigration Review, 5107 Leesburg Pike, Falls Church, VA 22041, telephone (703) 305-0289 (not a toll-free call).

SUPPLEMENTARY INFORMATION: In FR Rule Doc. 2020-26875, appearing on page 80400 in the Federal Register of Friday, December 11, 2020, the following correction is made:

§ 1235.6 [Corrected]

1. On page 80400, in the third column, in part 1235, in amendatory instruction 38c is corrected to read “Revising paragraphs (a)(2)(i) and (iii); and”.

Dated: January 7, 2021.
Rosemary Hart,
Special Counsel and Liaison to the Federal Register.

[FR Doc. 2021-00409 Filed 1-8-21; 8:45 am]

BILLING CODE 4410-30-P